DEPARTMENT OF TRANSPORTATION

Federal Aviation Administration

14 CFR Part 71

[Docket No. FAA-2024-2491; Airspace Docket No. 23-ANM-23]

RIN 2120-AA66

Establishment of Class E Airspace; Challis Airport, Challis, ID; Correction

AGENCY: Federal Aviation Administration (FAA), DOT.

ACTION: Final rule; correction.

SUMMARY: The FAA is correcting a typographical error in the agency docket number within the final rule published in the Federal Register on March 20, 2025, establishing Class E airspace extending upward from 700 feet above the surface in Challis, ID.

DATES: Effective 0901 UTC, June 12, 2025. The Director of the Federal Register approves this incorporation by reference action under 1 CFR part 51, subject to the annual revision of FAA Order 7400.11, Airspace Designations and Reporting Points, and publication of conforming amendments.

FOR FURTHER INFORMATION CONTACT: Jeffrey Drasin, Federal Aviation Administration, Western Service Center, Operations Support Group, 2200 S 216th Street, Des Moines, WA 98198; telephone (206) 231-2248.

SUPPLEMENTARY INFORMATION:

History

The FAA published a final rule in the Federal Register (90 FR 13067; March 20, 2025) establishing Class E airspace at Challis Airport, Challis, ID. Subsequent to publication, the FAA identified an error within the agency docket number, which was also present within the notice of proposed rulemaking. This action corrects the final rule by replacing the incorrect agency docket number (FAA-2023-2491) with the correct one (FAA-2024-2491).

Correction to the Final Rule

On page 13607, in the first column, immediately under “14 CFR Part 71” and within the document headings, the agency docket number is corrected to read “FAA-2024-2491”.

Issued in Des Moines, Washington, on April 2, 2025.
B.G. Chew,
Group Manager, Western Service Center, Operations Support Group.

[FR Doc. 2025-06035 Filed 4-9-25; 8:45 am]

BILLING CODE 4910-13-P